COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: June 22, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

5340-00-NIB-0142—Electronic Push Button Lockset, Philadelphia-style Lever, Small Format Interchangeable Core

5340-00-NIB-0143—Electronic Push Button Lockset, Philadelphia-style Lever, Large Format Interchangeable Core

Authorized Source of Supply: Cincinnati Association For The Blind and Visually Impaired, Cincinnati, OH

Contracting Activity: DLA Troop Support, Philadelphia, Pa

NSN(s)—Product Name(s): 7530-00-NIB-0193—Folder, Medical, Outpatient

Authorized Source of Supply: LC Industries, Inc., Durham, NC

Contracting Activity: Strategic Acquisition Center, Fredericksburg, Va

NSN(s)—Product Name(s): 6515-00-NIB-8388—Kit, Surgical Team, Air Force Austere Custom Packs (AFAST-CP)

Authorized Source of Supply: LC Industries, Inc., Durham, NC

Contracting Activity: DLA Troop Support, Philadelphia, Pa

NSN(s)—Product Name(s):

8105-00-NIB-1021—Bag, Paper, Grocers

8105-00-NIB-1024—Grocery Bag, Paper

8105-00-NIB-1025—Grocery Bag, Paper

Authorized Source of Supply: LC Industries, Inc., Durham, NC

Contracting Activity: Defense Commissary Agency, Fort Gregg-Adams, VA

Service(s)

Service Type: Custodial and Related Services

Mandatory for: GSA PBS Region 1, Burlington Federal Building, Burlington, VT

Authorized Source of Supply: Northern New England Employment Services, Portland, ME

Contracting Activity: PUBLIC BUILDINGS SERVICE, PBS R1

Service Type: Document Destruction

Mandatory for: Railroad Retirement Board, Headquarters Building, Chicago, IL

Contracting Activity: Railroad Retirement Board, RRB—Acquisition Mgmt Division

Service Type: Laundry Service

Mandatory for: FEMA, National Emergency Training Center, Emmitsburg, MD

Authorized Source of Supply: Louise W. Eggleston Center, Inc., Norfolk, VA

Contracting Activity: Federal Emergency Management Agency, Preparedness Section(Pre20)

Service Type: Custodial and Related Services

Mandatory for: GSA PBS Region 3, LeHigh Valley International Airport, TSA Space, Allentown, PA

Mandatory Source of Supply: Via of the Lehigh Valley, Inc., Bethlehem, PA

Contracting Activity: Public Buildings Service, PBS R3

Service Type: Operation of USDA Cental Shpg. & Rcvg.

Mandatory for: US Department of Agriculture, Central Shipping and Receiving Facility, Washington, DC

Mandatory Source of Supply: ServiceSource, Inc., Oakton, VA

Contracting Activity: USDA, Departmental Administration, USDA, OCP-POD-ACQ-MGMT-Branch-FTC

Service Type: Janitorial/Custodial

Mandatory for: US Army Reserve, Butler USARC/BMA #110 S-S, Butler, PA

Authorized Source of Supply: VGS, Inc., Cleveland, OH

Contracting Activity: DEPT OF THE ARMY, W6QK ACC-PICA

Service Type: Janitorial/Grounds and Related Services

Mandatory for: US Army Reserve, Elihu Root USARC, Utica, NY

Mandatory Source of Supply: Human Technologies Corporation, Utica, NY

Contracting Activity: DEPT OF THE ARMY, W6QK ACC-PICA

Michael R. Jurkowski,
Director, Business Operations.

[FR Doc. 2025-09314 Filed 5-22-25; 8:45 am]

BILLING CODE 6353-01-P